DEPARTMENT OF TRANSPORTATION

Federal Highway Administration

Environmental Impact Statement: Fond du Lac & Sheboygan Counties, Wisconsin

AGENCY: Federal Highway Administration (FHWA), DOT.

ACTION: Notice of intent to prepare an environmental impact statement.

SUMMARY: The FHWA is issuing this notice to advise the public that an environmental impact statement (EIS) will be prepared for the proposed improvements of STH 23 between CTH K east of Fond du Lac in Fond du Lac County and CTH P west of Plymouth in Sheboygan County, Wisconsin.

FOR FURTHER INFORMATION CONTACT: Mr. Johnny M Gerbitz, Field Operations Engineer, Federal Highway Administration, 567 D'Onofrio Drive, Madison, Wisconsin 53719-2814; telephone: (608) 829-7511. You may also contact Mr. Eugene Johnson, Director, Bureau of Equity & Environmental Services, Wisconsin Department of Transportation, P.O. Box 7965, Madison, Wisconsin 53707-7965; telephone: number 608-267-9527.

SUPPLEMENTARY INFORMATION:

Electronic Access

An electronic copy of this document may be downloaded by using a computer, modem and suitable communications software from the Government Printing Office's Electronic Bulletin Board Service at (202) 512-1661. Internet users may reach the Office of Federal Register's home page at: http://www.archives.gov/ and the Government Printing Office's database at: http://www.gpoaccess.gov/nara/index.html.

Background

The FHWA, in cooperation with the Wisconsin Department of Transportation, will prepare an Environmental Impact Statement to construct a four-lane facility on STH 23. The project begins at CTH K east of Fond du Lac in Fond du Lac County and extends approximately 19 miles to CTH P west of Plymouth in Sheboygan County, Wisconsin.

The anticipated format for the EIS will be Screening Worksheets rather than the typical narrative form. The Wisconsin Department of Transportation has developed a series of Environmental Screening Worksheets which are divided into Basic Sheets and Factor Sheets. The Screening Worksheets provide a flexible means of addressing the requirements for an Environmental Document.

The improvements to this highway are considered necessary to decrease the potential for crashes, lower congestion, and complete the constrution of a multi-lane highway facility between the Fond du Lac and Sheboygan urban areas.

Planning, environmental, and engineering studies are underway to develop transportation alternatives. The EIS will assess the need, location, and environmental impacts of alternatives within the study area. These alternatives include (1) No Build—this alternative assumes the continued use of existing facility with the maintenance necessary to ensure its continued use; (2) Upgrade the Existing Facilities—this alternative would improve the safety and traffic handling capabilities of the existing route; (3) Construction of Added Lanes on Existing or New Alignment—This alternative would involve one or more proposals for construction of two new lanes adjacent to the existing highway or another local roadway, constructing four lanes on new locations, or a combination of add lanes and a new location. All alternatives will examine improvements to bicycle and pedestrian facilities.

Information describing the proposed action and soliciting comments will be sent to appropriate Federal, State and local agencies and to private organizations and citizens who have previously expressed, or are known to have interest in this proposal. A series of public meetings will be held in the project corridor throughout the data gathering and development of alternatives. In addition, a public hearing will be held. Public notice will be given of the time and place of the meetings and hearing. The Draft EIS will be available for public and agency review and comment prior to the hearing. As part of the scoping process, coordination activities have begun. A Corridor Preservation Study is underway and will be a large contributor to the EIS study and the alternate development. Coordination with public officials and local residents will continue with focus groups, set up to help determine the alternatives to be evaluated. Scoping meetings will continue to be held on an individual or group meeting basis. Agency coordination will be accomplished during these meetings.

To ensure that the full range of issues related to this proposed action are addressed, and all substantive issues are identified, comments and suggestions are invited from all interested parties. Comments or questions concerning this proposed action and the EIS should be directed to FHWA or the Wisconsin Department of Transportation at the addresses provided in the caption FOR FURTHER INFORMATION CONTACT.

(Catalog of Federal Domestic Assistance Program Number 20.205, Highway Planning and Construction. The regulations implementing Executive Order 12372 regarding intergovernmental consultation on Federal programs and activities apply to this program).

Authority: 23 U.S.C. 315; 49 CFR 1.48.

Issued on: November 17, 2003.
Johnny M Gerbitz,
Field Operations Engineer, Federal Highway Administration, Madison, Wisconsin.

[FR Doc. 03-29215 Filed 11-21-03; 8:45 am]

BILLING CODE 4910-22-P